OFFICE OF PERSONNEL MANAGEMENT

5 CFR Part 792

RIN 3206-AJ77

Agency Use of Appropriated Funds for Child Care Costs for Lower Income Employees

AGENCY: Office of Personnel Management.

ACTION: Final rule.

SUMMARY: The Office of Personnel Management (OPM) is issuing final regulations implementing the Child Care Subsidy Program legislation. OPM is issuing final regulations because Congress made permanent the law authorizing agencies in the Executive Branch of the Federal Government to assist lower income employees with their child care costs, thus making child care more affordable for those employees.

EFFECTIVE DATE: The regulations are effective March 24, 2003.

ADDRESSES: Direct questions to: U.S. Office of Personnel Management, 1900 E St. NW., Room 7315, Washington, DC 20415, Attn: Bonnie Storm or e-mail bstorm@opm.gov.

FOR FURTHER INFORMATION CONTACT: Bonnie Storm at (202) 606-1313; by fax at (202) 606-2091; or by e-mail at bstorm@opm.gov.

SUPPLEMENTARY INFORMATION: OPM is issuing final regulations for 5 CFR part 792. Congress enacted Pub. L. 106-58, sec. 643, on September 29, 1999, which allowed Executive agencies to use appropriated funds to assist their lower income Federal employees with the costs of child care. The authority was first established as a pilot program effective from March 14, 2000, until September 30, 2001.

OPM first issued interim regulations to implement the authority, which were published in the Federal Register on March 14, 2000. The authority for the Child Care Subsidy Program was then made permanent on November 12, 2001, by sec. 630, Pub. L. 107-67, the 2001 Treasury and General Government Appropriations Act. OPM then issued interim regulations “Agency Use of Appropriated Funds for Child Care Costs for Lower Income Employees” on March 24, 2003 (68 FR 14127). This regulation became effective on March 24, 2003.

The latest interim regulations clarified that the law was permanent and removed dates that were no longer relevant. The regulation also authorized advance payments to child care providers under certain circumstances as described in Sec. 792.231. The revisions contained in the interim regulations also made the regulations easier to understand by substituting the words “child care subsidy” for “tuition assistance” to avoid any confusion associated with educational programs versus custodial care programs. Finally, the interim regulations clarified that agencies must use child care providers that meet State and local licensing standards, and that employees are free to choose among both accredited and non-accredited providers in order to qualify.

The interim regulations that were published in the Federal Register on March 24, 2003, provided a 30-day period for comments, but no comments were received.

Executive Order 12866 Regulatory Review

This rule has been reviewed by the Office of Management and Budget in accordance with Executive Order 12866.

Regulatory Flexibility Act

I certify that these changes will not have a significant economic impact on a substantial number of small entities because the regulations pertain only to Federal employees and agencies.

List of Subjects in 5 CFR Part 792

Alcohol abuse, Alcoholism, Day care, Drug abuse, Government employees.

Office of Personnel Management.
Kay Coles James,
Director.

Accordingly, under the authority of Pub. L. 107-67, the interim rule issued on March 24, 2003 (68 FR 14127) amending 5 CFR part 792, is adopted as final with no substantive changes.

[FR Doc. 04-3953 Filed 2-23-04; 8:45 am]

BILLING CODE 6325-41-M